INTERNATIONAL TRADE COMMISSION

[Investigation No. 731-TA-1013 (Second Review)]

Saccharin From China; Notice of Commission Determination To Conduct a Portion of the Hearing in Camera

AGENCY: U.S. International Trade Commission.

ACTION: Closure of a portion of a Commission hearing.

SUMMARY: The Commission has determined that it will conduct a portion of its hearing in the captioned review scheduled for March 31, 2015 in camera.

FOR FURTHER INFORMATION CONTACT: David Goldfine, Attorney-Advisor, Office of the General Counsel, U.S. International Trade Commission, telephone (202) 708-5452. Hearing-impaired individuals are advised that information on this matter may be obtained by contacting the Commission's TDD terminal on (202) 205-3105.

SUPPLEMENTARY INFORMATION: The Commission will conduct a public hearing in the above-referenced review. Since no respondents have participated in this second five-year review, the public hearing will include only counsel and industry witnesses appearing on behalf of those interested parties supporting continuation of the order. The hearing will include the usual public presentations by those supporting continuation of the order, followed by public questions from the Commission.

Following the public questions, the Commission will conduct an in camera session to pose questions concerning matters that involve business proprietary information (BPI). See 19 CFR 201.13(m)(2). During this session, appropriate members of the panel supporting continuation of the order will have the opportunity to respond to the Commission's questions but will not be allowed to make any further presentation. Following the in camera session, the hearing will be reopened to the public to permit those supporting continuation of the order to provide closing remarks.

During the in camera session the room will be cleared of all persons except those who have been granted access to BPI under a Commission administrative protective order (APO) and are included on the Commission's APO service list In this investigation. See 19 CFR 201.35(b). All persons planning to attend the in camera portion of the hearing should be prepared to present proper identification. The Commission has determined that publication of an earlier announcement of a closure of a portion of the hearing was not practicable. See 19 CFR 201.35(c)(1).

Authority: The Acting General Counsel has certified, pursuant to Commission Rule 201.13(m)(2) (19 CFR 201.13(m)(2)) that, in his opinion, a portion of the Commission's hearing in Saccharin from China, Inv. No. 731-TA-1013 (Second Review), may be closed to the public to prevent the disclosure of BPI.

Issued: March 30, 2015.
By order of the Commission.
Lisa R. Barton,
Secretary to the Commission.

[FR Doc. 2015-07633 Filed 4-2-15; 8:45 am]

BILLING CODE 7020-02-P